DEPARTMENT OF COMMERCE

Economic Development Administration

Comprehensive Economic Development Strategy—Request for Comments

ACTION: Proposed collection: comment request.

SUMMARY: The Department of Commerce as part of its continuing effort to reduce paperwork and respondent burden invites the general public and other Federal agencies to take this opportunity to comment on proposed or continuing information collections, as required by the Paperwork Reduction Act of 1994, Public Law 104-13 (44 U.S.C. 3506(c)(2)(A)).

DATES: Written comments must be submitted on or before August 26, 2002.

ADDRESSES: Direct all written comments to Madeleine Clayton, Departmental Paperwork Clearance Officer, Department of Commerce, Room 6608, 14th and Constitution Avenue, NW., Washington DC 20230 or via Internet at MClayton@doc.gov.

FOR FURTHER INFORMATION CONTACT: Requests for additional information or copies of the information collection instruments and instructions should be directed to Patricia Flynn, Director, Operations Review and Analysis Division, Economic Development Administration, Room 7015, Washington, DC 20230, telephone 202-482-5353.

SUPPLEMENTARY INFORMATION:

I. Abstract

The Economic Development Administration (EDA) helps our partners across the nation (states, regions, and communities) create wealth and minimize poverty by promoting a favorable business environment to attract private capital investment and jobs through world-class capacity building, planning, infrastructure, research grants, and strategic initiatives.

The Comprehensive Economic Development Strategy (CEDS) is needed by EDA to ensure that areas served by an EDA-supported planning organization have or are developing a continuous community-based planning process and have thoroughly thought out what type of economic development is needed in the area. The process addresses both the assets of the area in terms of natural resources, labor skills, educational and research facilities, transportation, infrastructure, financial resources, proximity to major economic hubs, or any other positive influences that can be identified, and also the liabilities of the area in terms of unemployment, underemployment, low incomes, threatened closure of industry or other employment centers, out-migration, denigration of natural resources or other negatives. The CEDS process is designed to bring about consensus on long-term goals and specific activities to reach those goals with the overall purpose of alleviating economic decline and in fact, developing an environment conducive to economic development.

II. Method of Collection

This information is required under the Public Works and Economic Development Act of 1965, as amended, including the comprehensive amendments by the Economic Development Administration Reform Act of 1998, Public Law 105-393, (PWEDA). The information is used by EDA to determine: if statutory requirements are met on eligibility for projects for public works and economic adjustment (except for strategy/planning); district designation requirements; and if planning requirements are met. The CEDS has been revised to include EDA's Investment Policy Guidelines which are intended to further define the criteria used to evaluate proposals for EDA funding which are provided at 13 CFR 304.2.

III. Data

OMB Number(s) 0610-0093.

Form Number: Not Applicable.

Burden: 33,150.

Type of Review: Extension of currently approved collection.

Affected Public: EDA-funded grantees: State, local and tribal governments; community organizations; and not-for-profit organizations.

Estimated Number of Respondents: Approximately 640.

Estimated Time per Response: (1) Initial CEDS for Districts and other EDA-supported Planning Organizations—240 hours; (2) CEDS Document for non-Districts and non-EDA supported organizations—25 hours; (3) Annual CEDS Report—50 hours; and (4) CEDS Update—75 hours.

Estimated Total Annual Burden Hours: 33,150 hours.

Estimate Total Annual Cost: $1,344,000.

IV. Request for Comments

Comments are invited on: (a) Whether the proposed collection of information is necessary for the proper performance of the functions of the agency, including whether the information shall have practical utility; (b) the accuracy of the agency's estimate of the burden (including hours and cost) of the proposed collection of information; (c) ways to enhance the equality, utility and clarity of the information to be collected; and (d) ways to minimize the burden of the collection of information on respondents, including through the use of automated collection techniques or other forms of information technology.

Comments submitted in response to this notice will be summarized and/or included in the request for OMB approval of this information collection; they also will become a matter of public record.

Dated: June 20, 2002.
Madeleine G. Clayton,
Departmental Paperwork Clearance Officer, Office of the Chief Information Officer.

[FR Doc. 02-16043 Filed 6-25-02; 8:45 am]

BILLING CODE 3510-34-P